DEPARTMENT OF LABOR

Employment and Training Administration

[TA-W-52,607]

Nibco, Inc., Central Tooling Services Center, Elkhart, Indiana; Notice of Termination of Investigation

Pursuant to section 221 of the Trade Act of 1974, an investigation was initiated on August 19, 2003, in response to a worker petition filed by the United Steelworkers of America, Local 14810 on behalf of workers at NIBCO, Inc., Central Tooling Services Center (CTS), Elkhart, Indiana.

A negative determination applicable to the petitioning group of workers was issued on August 12, 2003 (TA-W-52,327). No new information is evident which would result in a reversal of the Department's previous determination.

Consequently, further investigation in this case would serve no purpose, and the investigation has been terminated.

Signed in Washington, DC this 26th day of August 2003.
Richard Church,
Certifying Officer, Division of Trade Adjustment Assistance.

[FR Doc. 03-23713 Filed 9-16-03; 8:45 am]

BILLING CODE 4510-30-P